DEPARTMENT OF COMMERCE

National Oceanic and Atmospheric Administration

50 CFR Part 660

[Docket No. 000831250-0250-01; 102500C]

Fisheries off West Coast States and in the Western Pacific; Coastal Pelagic Species Fisheries; Closure of Directed Fishery for Pacific Mackerel

AGENCY: National Marine Fisheries Service (NMFS), National Oceanic and Atmospheric Administration (NOAA), Commerce.

ACTION: Closure of directed fishery for Pacific mackerel.

SUMMARY: NMFS announces the closure of the directed fishery for Pacific mackerel in the exclusive economic zone off the Pacific coast October 27, 2000.The Coastal Pelagic Species Fishery Management Plan (FMP) and its implementing regulations require NMFS to set an annual harvest guideline for Pacific mackerel based on a formula in the FMP and to close the fishery when the harvest guideline is reached. The harvest guideline of 20,740 metric tons is projected to be reached before the end of the fishing season on June 30, 2001, which requires closing the directed fishery and setting an incidental harvest limit for Pacific mackerel so that the harvest of other coastal pelagic species will not be further restricted. The intended effect of this action is to ensure conservation of the Pacific mackerel resource.

DATES: Effective October 27, 2000.

ADDRESSES: The data that was used as the basis for this action are available for public inspection at the Office of the Regional Administrator, Rebecca Lent, Southwest Region (Regional Administrator), NMFS, 501 W. Ocean Boulevard, Suite 4200, Long Beach, CA 90802-4213.

FOR FURTHER INFORMATION CONTACT: James J. Morgan, Southwest Region, NMFS, (562) 980-4036.

SUPPLEMENTARY INFORMATION: On September 11, 2000, NMFS announced a harvest guideline in the Federal Register (65 FR 54817) for Pacific mackerel of 20,740 mt for the fishing season of July 1, 2000 through June 30, 2001. The harvest guideline was based on an annual biomass estimate and calculated using a formula in the FMP applying information on that portion of the stock in U.S. waters and the required harvest rate above a minimum biomass.

As of October 17, 2000, 17,829 mt of Pacific mackerel has been harvested. The FMP states that incidental catch allowances are applied when a stock is overfished or a harvest guideline is met, but may be employed under other conditions such as to avoid premature filling of a harvest guideline due to the incidental catch. The high harvest rate of Pacific mackerel will lead to reaching the harvest guideline well before the end of the season and at a time when sardine harvests are likely to be high; therefore, the remaining harvest guideline will be set aside to account for incidental harvests of Pacific mackerel when fishing for sardine. This will tend to minimize bycatch of Pacific mackerel while allowing the sardine fishery to be conducted without further restrictions.

The FMP allows the setting of incidental catch allowances from zero to 45 percent of the landed weight as determined by the Pacific Fishery Management Council (Council) and/or the NMFS Regional Administrator. The Council’s Coastal Pelagic Species Management Team and the Coastal Pelagic Species Advisory Subpanel on October 17-18, 2000 recommended closing the directed fishery for Pacific mackerel and imposing an incidental harvest limit of no more than 20 percent by weight of Pacific mackerel in landings of Pacific sardine. These incidental catch allowances will avoid unnecessary discard; ensure that optimum yield is taken, but not exceeded; and promote efficiency and profitability in the fishery.

For the reasons stated here and in accordance with the FMP and its implementing regulations at 50 CFR 660.509, the directed fishery for Pacific mackerel will be closed October 27, 2000, after which time no more than 20 percent by weight of any landing of Pacific sardine may be Pacific mackerel.

Classification

This action is required by 50 CFR 660.509 and is exempt from review under Executive Order 12866.

Authority: 16 U.S.C. 1801 et seq.

Dated: October 27, 2000.
Bruce C. Morehead,
Acting Director, Office of Sustainable Fisheries, National Marine Fisheries Service.

[FR Doc. 00-28019 Filed 10-27-00; 2:41 pm]

BILLING CODE 3510-22-S